DEPARTMENT OF AGRICULTURE

Forest Service

Reconstruction of Meadows Road 205 and Issuance of a Road Easement to Access Private Land

AGENCY: Forest Service, Department of Agriculture.

ACTION: Notice of availability of a Final Environmental Impact Statement for a proposal to issue a road easement to a private landowner and to permit the landowner to reconstruct the Meadows Road (FDR-205) to access private land in-holding.

SUMMARY: Pursuant to the National Environmental Policy Act (NEPA) and implementing regulations and other applicable statutes, the U.S. Forest Service announces the availability of a Final Environmental Impact Statement (FEIS) for an applicant's proposal to acquire a road easement and reconstruct an access road to their private land in-holding on the San Juan National Forest. The FEIS analyzes the impacts of issuing the road easement and reconstructing Forest Development Road (FDR) 205 to a standard that would allow reasonable access to the landowner's private land in-holding.

ADDRESSES: Please address questions or requests for copies of the FEIS to the San Juan Public Lands Center, Attn: Jim Powers, 15 Burnett Court, Durango, Colorado 81301; or phone (970) 247-4874. The FEIS is also available on the internet at ftp://ftp2.fs.fed.us/incoming/r2/sanjuan/lizard_head.

FOR FURTHER INFORMATION CONTACT: Patrick McCoy at (970) 82-6821 or Jim Powers at (970)247-4874.

SUPPLEMENTARY INFORMATION: The responsible official for issuance of the road easement is Richard Stem, Deputy Regional Forester, Rocky Mountain Region at P.O. Box 25127, Lakewood, Colorado 80225-0127. The EIS addresses road reconstruction and issuance of an easement across such road for the purpose of providing the applicant access to non-federally owned lands within the boundaries of the San Juan National Forest. The private landowner has proposed use of the existing road to meet their access needs.

Dated: July 12, 2007.
Richard Stem,
Deputy Regional Forester, Forest Service, Rocky Mountain Region.

[FR Doc. E7-16987 Filed 8-27-07; 8:45 am]

BILLING CODE 3410-11-P